NATIONAL SCIENCE FOUNDATION

Advisory Committee for Social, Behavioral and Economic Sciences; Notice of Meeting

In accordance with Federal Advisory Committee Act (Pub. L. 92-463, as amended), the National Science Foundation announces the following meeting:

Name: Advisory Committee for Social, Behavioral and Economic Sciences (#1171).

Date/Time: May 23, 2016; 9:00 a.m. to 5:00 p.m. May 24, 2016; 8:30 a.m. to 12:30 p.m.

Place: National Science Foundation, 4201 Wilson Boulevard, Stafford I Room 1235, Arlington, VA 22230.

Type Of Meeting: Open.

Contact Person: Dr. Deborah Olster, Office of the Assistant Director, Directorate for Social, Behavioral and Economic Sciences, National Science Foundation, 4201 Wilson Boulevard, Room 905, Arlington, Virginia 22230, 703-292-8700.

Summary Of Minutes: May be obtained from contact person listed above.

Purpose Of Meeting: To provide advice and recommendations to the National Science Foundation on major goals and policies pertaining to Social, Behavioral and Economic Sciences Directorate (SBE) programs and activities.

Agenda

Monday, May 23, 2016

SBE Directorate and Division Updates

Grand Challenges in the SBE Sciences

Graduate Education in the SBE Sciences

Science of Science Communications

Tuesday, May 24, 2016

Public Access to SBE Data

Cyberinfrastructure: Collaborations between SBE and the Directorate for Computer & Information Science & Engineering

NSF Broader Impacts Strategic Review

Meeting with NSF Leadership

Future Meetings, Assignments and Concluding Remarks

Dated: April 14, 2016.
Crystal Robinson,
Committee Management Officer.

[FR Doc. 2016-09049 Filed 4-19-16; 8:45 am]

BILLING CODE 7555-01-P